DEPARTMENT OF LABOR

Employment and Training Administration

[TA-W-59,240]

Coleman Cable, Inc., Automotive Division, Including On-Site Leased Workers of Future Force, Including On-Site Workers of Future Force Receiving Wages Paid by Crum and Foster, Miami Lakes, FL; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on May 5, 2006, applicable to workers of Coleman Cable, Inc., Automotive Division, including on-site leased workers of Future Force, Miami Lakes, Florida. The notice was published in the Federal Register on May 17, 2006 (71 FR 28709).

At the request of the State agency, the Department reviewed the certification for workers of the subject firm. The workers are engaged in the production of automotive cables and extension cords.

Information provided by a company official shows that Crum and Foster was contracted by the leasing firm, Future Force, to provide payroll function services to workers employed on-site at the Miami Lakes, Florida location of Coleman Cable, Inc., Automotive Division.

Information also shows that all on-site leased workers of Future Force separated from employment at the subject firm had their wages reported under a separate unemployment insurance (UI) tax account for Crum and Foster.

Based on these findings, the Department is amending this certification to include leased workers whose wages were reported by Crum and Foster working on-site at Coleman Cable, Inc., Automotive Division, Miami Lakes, Florida.

The intent of the Department's certification is to include all workers of Coleman Cable, Inc., Automotive Division who was adversely affected by increased company imports.

The amended notice applicable to TA-W-59,240 is hereby issued as follows:

All workers of Coleman Cable, Inc., Automotive Division, including on-site leased workers of Future Force, and on-site Future Force workers who's wages were reported by Crum and Foster, Miami Lakes, Florida, who became totally or partially separated from employment on or after April 18, 2005, through May 5, 2008, are eligible to apply for adjustment assistance under Section 223 of the Trade Act of 1974 and are also eligible to apply for alternative trade adjustment assistance under Section 246 of the Trade Act of 1974.

Signed at Washington, DC, this 26th day of July 2006.
Richard Church,
Certifying Officer, Division of Trade Adjustment Assistance.

[FR Doc. E6-13088 Filed 8-9-06; 8:45 am]

BILLING CODE 4510-30-P